DEPARTMENT OF THE INTERIOR

Fish and Wildlife Service

[FWS-R2-ES-2016-N172; FXES11140200000-178-FF02ENEH00]

Renewing an Expired Golden-Cheeked Warbler Incidental Take Permit in Travis County, Texas

AGENCY: Fish and Wildlife Service, Interior.

ACTION: Notice of availability; request for public comments on the application.

SUMMARY: Under the Endangered Species Act of 1973, as amended, we, the U.S. Fish and Wildlife Service, intend to reissue an expired golden-cheeked warbler (GCWA) incidental take permit (ITP) in Travis County, Texas. The ITP, which would be in effect for 10 years from the issuance date, if granted, would reauthorize GCWA incidental take. We will not accept comments on the previously approved Environmental Assessment/Habitat Conservation Plan (HCP).

DATES: To ensure consideration, written comments must be received or postmarked on or before January 12, 2017.

ADDRESSES: Document Availability: You may obtain copies of the final EA/HCP by the following means:

• Internet: http://www.fws.gov/southwest/es/AustinTexas/.

• In-Person: The following locations, by appointment and written request only, 8 a.m. to 4:30 p.m.:

○ U.S. Fish and Wildlife Service, 500 Gold Avenue SW., Room 6034, Albuquerque, NM 87102.

○ U.S. Fish and Wildlife Service, 10711 Burnet Road, Suite 200, Austin, TX 78758.

• U.S. Mail: U.S. Fish and Wildlife Service, 10711 Burnet Road, Suite 200, Austin, TX 78758.

The ITP application is available by mail from the Regional Director, U.S. Fish and Wildlife Service, Attention: HCP Permits, P.O. Box 1306, Room 6034, Albuquerque, NM 87103.

Comment submission: You may submit written comments by one of the following methods:

• Email: FW2_AUES_Consult@fws.gov. Please note that your request is in reference to the Aaron Ross Permit (TE010556-2).

• Hard copy: Via U.S. mail to Mr. Adam Zerrenner, Austin Ecological Services Field Office, 10711 Burnet Road, Suite 200, Austin, TX 78758-4460; or via fax to 512-490-0974. Please note that your request is in reference to the Aaron Ross Permit (TE 010556-2).

FOR FURTHER INFORMATION CONTACT: Adam Zerrenner, Field Supervisor, by U.S. mail at the U.S. Fish and Wildlife Service, 10711 Burnet Road, Suite 200, Austin, TX 78758; or via telephone at (512) 490-0057.

SUPPLEMENTARY INFORMATION: Under the Endangered Species Act of 1973, as amended (Act; 16 U.S.C. 1531 et seq.), we, the U.S. Fish and Wildlife Service, intend to reissue an expired golden-cheeked warbler (GCWA) incidental take permit (ITP) for single-family residence construction on a 0.75-acre site located on City Park Road, Travis County, Texas. Aaron Ross (applicant) has applied for an ITP (TE010556-2) under the Act, section 10(a)(1)(B). On July 21, 1999, we issued a GCWA incidental take permit to James Hunt. The permit (TE010556-0) duration was 5 years and expired on July 21, 2004. On June 5, 2006, we renewed that permit through April 19, 2011. The ITP reissuance Mr. Ross requested would be in effect for 10 years from the issuance date, if granted, and would reauthorize GCWA incidental take. Previous Federal Register notices related to this action are at 64 FR 26771 (May 17, 1999) and 71 FR 7561 (February 13, 2006).

Proposed Action

The proposed action involves our reissuing an ITP for single-family residence construction and occupation. The ITP would cover GCWA “take” associated with developing a 0.75-acre site located on 10.39 acres.

The requested permit term is 10 years. To meet section 10(a)(1)(B) ITP requirements, the applicant proposes to implement the previously approved Hunt HCP. The HCP describes the conservation measures to minimize and mitigate for the proposed GCWA incidental take to the maximum extent practicable, and ensures that incidental take will not appreciably reduce the species' survival and recovery likelihood in the wild. The applicant will mitigate for the proposed impacts to GCWA habitat by perpetually protecting, managing, and monitoring approximately 9.4 acres under a Travis County conservation easement.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee we will be able to do so. All submissions from organizations or businesses, and from individuals identifying themselves as representatives or officials of organizations or businesses, will be made available for public disclosure in their entirety.

Authority

We provide this notice under the Act, section 10(c), and its implementing regulations (50 CFR 17.22 and 17.32) and the National Environmental Policy Act and its implementing regulations (40 CFR 1506.6).

Joy E. Nicholopoulos,
Acting Regional Director, Southwest Region, U.S. Fish and Wildlife Service.

[FR Doc. 2016-29817 Filed 12-12-16; 8:45 am]

BILLING CODE 4333-15-P